ENVIROMENTAL PROTECTION AGENCY

[FRL-9142-6]

Clean Air Act Operating Permit Program; Petition To Object to Title V Permit for Wheelabrator Baltimore, L.P., Baltimore City, MD

AGENCY: Environmental Protection Agency (EPA).

ACTION: Notice of final action.

SUMMARY: Pursuant to section 505(b)(2) of the Clean Air Act (CAA), the EPA Administrator signed an order, dated April 14, 2010, partially granting and partially denying a petition to object to a state operating permit proposed to be issued by the Maryland Department of the Environment (MDE) to Wheelabrator Baltimore, L.P. for its facility located in Baltimore City, Maryland. This order constitutes final action on the petition filed by the Environmental Integrity Project, the Baltimore Harbor Waterkeeper, Inc., and Clean Water Action (Petitioners), dated May 21, 2009, requesting that the Administrator object to the issuance of the proposed title V permit.

Pursuant to section 505(b)(2) of the CAA, the petitioner may seek judicial review of those portions of the petition which EPA denied in the United States Court of Appeals for the appropriate circuit. Any petition for review shall be filed within 60 days of this notice in accordance with the requirements of section 307 of the CAA.

ADDRESSES: Copies of the final order, the petition, and all pertinent information relating thereto are on file at the following location: Environmental Protection Agency, Region III, Air Protection Division (APD), 1650 Arch St., Philadelphia, Pennsylvania 19103. The final order is also available electronically at the following Web site: http://www.epa.gov/region07/programs/artd/air/title5/petitionb/petitiondb.htm.

FOR FURTHER INFORMATION CONTACT: Amy Caprio, Air Protection Division, EPA Region III, telephone (215) 814-2156, or by e-mail at caprio.amy@epa.gov.

SUPPLEMENTARY INFORMATION: The Clean Air Act (CAA) affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

EPA received a petition from the Petitioners, dated May 21, 2009, requesting that EPA object to the issuance of the proposed title V permit for Wheelabrator Baltimore, L.P. because: (1) Of illegal weakening of the title V permit conditions; (2) inadequate monitoring methodology; and (3) inadequate monitoring requirements for particulate matter, mercury, lead, hydrogen chloride and dioxins/furans. The order explains the reasons behind EPA's decision to partially grant and partially deny the petition for objection.

Dated: April 19, 2010.
W.C. Early,
Acting Regional Administrator, Region III.

[FR Doc. 2010-9825 Filed 4-27-10; 8:45 am]

BILLING CODE 6560-50-P